DEPARTMENT OF THE TREASURY

United States Mint

2011 Numismatic Products Pricing

ACTION: Notice.

SUMMARY: The United States Mint is announcing the prices of its 2011 numismatic products.

Pursuant to the authority that 31 U.S.C. 5111(2)(3) & 5112 grant the Secretary of the Treasury to mint, prepare and distribute numismatic items, and in accordance with 31 U.S.C. 9701(b), the United States Mint is announcing the prices of its 2011 numismatic products.

Effective January 1, 2011, the United States Mint will commence selling the following numismatic products pursuant to the following price schedule:

Product | Retail/Introductory price | Regular price
Annual $1 Coin Uncirculated Set | $49.95 | N/A
2011 United States Mint Silver Proof Set™ | 67.95 | N/A
2011 United States Mint America the Beautiful Quarters Silver Proof Set™ | 39.95 | N/A
2011 United States Army Commemorative Coin Program Proof $5 Gold Coin | *449.95 | $454.95
2011 United States Army Commemorative Coin Program Uncirculated $5 Gold Coin | *439.95 | 444.95
2011 United States Army Commemorative Coin Program Proof Silver Dollar | *54.95 | 59.95
2011 United States Army Commemorative Coin Program Uncirculated Silver Dollar | *49.95 | 54.95
2011 United States Army Commemorative Coin Program Proof Clad Half-Dollar | *17.95 | 21.95
2011 United States Army Commemorative Coin Program Uncirculated Clad Half-Dollar | *15.95 | 19.95
2011 Medal of Honor Commemorative Coin Program Proof $5 Gold | *449.95 | 454.95
2011 Medal of Honor Commemorative Coin Program Uncirculated $5 Gold | *439.95 | 444.95
2011 Medal of Honor Commemorative Coin Program Proof Silver Dollar | *54.95 | 59.95
2011 Medal of Honor Commemorative Coin Program Uncirculated Silver Dollar | *49.95 | 54.95
2011 United States Mint Proof Set ® | 31.95 | N/A
2011 United States Mint America the Beautiful Quarters Proof Set ™ | 14.95 | N/A
2011 United States Mint Uncirculated Coin Set ® | 31.95 | N/A
2011 United States Mint Presidential $1 Coin Proof Set ™ | 19.95 | N/A
2011 Presidential $1 Coin Uncirculated Set ™ | 19.95 | N/A
2011 Presidential $1 Coin 25-Coin Rolls | 39.95 | N/A
2011 Presidential $1 Coin Covers | 19.95 | N/A
2011 United States Mint Presidential $1 Coin and First Spouse Medal Set ™ | 14.95 | N/A
First Spouse 1-5/16” Bronze Medals | 7.95 | N/A
2011 First Spouse Bronze Medal Series: Four Medal Set | 19.95 | N/A
1-1/2” Bronze Medals | 7.95 | N/A
3” Bronze Medals | 44.95 | N/A
2011 Kennedy Half-Dollar 200 Coin Bags | 134.95 | N/A
2011 Kennedy Half-Dollar Two-Roll Sets | 34.95 | N/A
2011 Native American $1 Coin 25-Coin Rolls | 39.95 | N/A
America the Beautiful Quarters ® Bags | 49.95 | N/A
America the Beautiful Quarters ® Rolls | 39.95 | N/A
America the Beautiful Quarters Uncirculated Coin Set ™ | 21.95 | N/A
America the Beautiful Quarters Three-Coin Set ™ | 14.95 | N/A
America the Beautiful Quarters ® Album | 9.95 | N/A
America the Beautiful Quarters ® Circulating Coin Set | 9.95 | N/A
*Introductory.

FOR FURTHER INFORMATION CONTACT: B.B. Craig, Associate Director for Sales and Marketing; United States Mint, 801 Ninth Street, NW., Washington, DC 20220; or call 202-354-7500.

Authority: 31 U.S.C. 5111, 5112, 9701(b).

Dated: December 29, 2010.
Edmund C. Moy,
Director, United States Mint.

[FR Doc. 2010-33189 Filed 1-3-11; 8:45 am]

BILLING CODE P